DEPARTMENT OF THE INTERIOR

National Park Service

Record of Decision

AGENCY: National Park Service, Interior.

ACTION: Notice of Availability of the Record of Decision on the Final Environmental Impact Statement/South Florida and Caribbean Parks Exotic Plant Management Plan.

SUMMARY: Pursuant to the National Environmental Policy Act of 1969, 42 U.S.C. 4332(2)(C), and the Council on Environmental Quality regulations (40 CFR part 1500-1508), the Department of the Interior, National Park Service (NPS) has prepared and approved a Record of Decision (ROD) for the Final Environmental Impact Statement (Final EIS) for the South Florida and Caribbean Parks Exotic Plant Management Plan. The nine parks included in this Plan are: Big Cypress National Preserve, Biscayne National Park, Canaveral National Seashore, Dry Tortugas National Park, Everglades National Park, Buck Island Reef National Monument, Christiansted National Historic Site, Salt River Bay National Historic Park and Ecological Preserve, and Virgin Islands National Park.

The ROD documents the decision by the NPS to implement Alternative C (New Framework for Exotic Plant management: Increased Planning, Monitoring, and Mitigation, with an Emphasis on Active Restoration of Native Plants) as the selected action for the South Florida and Caribbean Parks Exotic Plant Management Plan. Alternative C was also identified in the Final EIS as the environmentally preferable alternative.

The selected action is necessary to promote restoration of native species and habitat conditions in ecosystems that have been invaded by exotic plants and to protect park resources and values from adverse effects resulting from exotic plant presence and control activities. The intended effects or objectives of this action are to:

• Establish priorities for exotic plants to be treated and treatment locations in parks;

• Reduce the number of individual targeted exotic plants to minimize the threat to natural resources (native habitat, plants, and wildlife);

• Reduce to the greatest extent possible the introduction of new exotic plants into parks;

• Ensure that park exotic plant management programs support, and are consistent with, south Florida ecosystem restoration goals;

• Reconcile potential conflicts between preservation of significant cultural landscapes and removal of exotic plants;

• Preserve plants and sites valued by native Americans and other traditional cultures and protect archeological and historic resources, while reducing the spread of exotic plant species;

• Conduct the exotic plant management plan so it is continually monitored and improved, environmentally safe, incorporates best management practices, and supports and is supported by science and research;

• Minimize unintended impacts of control measures on park resources, visitors, employees, and the public;

• Use Federal resources with increased efficiency;

• Ensure that control measures are consistent with the Wilderness Act and NPS wilderness policy;

• Increase visitor and public awareness of the impacts exotic plants have on native habitat and species and on cultural resources, building support for NPS management efforts;

• Coordinate NPS efforts with partners and neighbors (nationally and internationally) to establish compatible goals and provide assistance to achieve them; and

• Restore and protect native plant communities in ways that allow natural processes, function, cycles, and biota to be re-established and maintained in perpetuity.

FOR FURTHER INFORMATION CONTACT: Sandra Hamilton, Environmental Quality Division, National Park Service, Academy Place, P.O. Box 25287, Denver, CO 80225. Telephone: (303) 969-2068 for questions about the EIS process or Tony Pernas, Southeast Regional Office, National Park Service (305) 252-0347 for questions about technical aspects of the Plan.

SUPPLEMENTARY INFORMATION: Under the selected action, the NPS will apply a systematic approach that will prioritize exotic plants for treatment, monitor effects of those treatments on exotic plants and park resources, and mitigate any adverse effects to park resources as determined through the monitoring program. The NPS will employ an adaptive management strategy, using the results of monitoring to adjust treatment methods or mitigation methods to reach the desired future condition of treated areas in the parks. A decision tool will be applied to determine areas that are appropriate for active restoration, which will occur in park areas that have been previously disturbed and in areas with potential threatened and endangered species habitat or sensitive vegetation communities where a more rapid recovery is desirable. The active restoration approach for a given treatment area will be determined based on a site-specific evaluation. Other areas in the parks will recover passively after treatment.

The ROD briefly discusses the selected action, two other alternatives considered, the basis for the decision, and measures to minimize impacts and address public concerns.

The requisite no-action “wait period” before approval of the ROD was initiated on 3 September 2010, with the U.S. Environmental Protection Agency's Federal Register notification of the filing of the Final EIS. As soon as practical after the publication of this Notice in the Federal Register, the nine parks included in the Plan will begin to implement treatment and control, monitoring, adaptive management of exotic plants and restoration of native plant communities as described and analyzed in the Preferred Alternative (Alternative C) presented in the Final EIS.

Interested parties desiring to review the ROD may access it on the NPS Planning, Environment and Public Comment Web site at http://parkplanning.nps.gov/WASO or may obtain a copy by contacting the participating parks' headquarters: Big Cypress National Preserve, 33100 Tamiami Trail East, Ochopee, FL 34141; Biscayne National Park, 9700 SW 328 Street, Homestead, FL 33033; Canaveral National Seashore, 212 S. Washington Avenue, Titusville, FL 32796; Dry Tortugas National Park, 40001 State Road 9336, Homestead, FL 33034; Everglades National Park, 40001 State Road 9336, Homestead, FL 33034; Buck Island Reef National Monument, Danish Custom House, Kings Wharf, 2100 Church Street #100, Christiansted, St. Croix, VI 00820; Christiansted National Historic Site, Danish Custom House, Kings Wharf, 2100 Church Street #100, Christiansted, St. Croix, VI 00820; Salt River Bay National Historic Park and Ecological Preserve, Danish Custom House, Kings Wharf, 2100 Church Street #100, Christiansted, St. Croix, VI 00820; and Virgin Islands National Park, 1300 Cruz Bay Creek, St. John, VI 00830.

Authority: The authority for publishing this notice is 40 CFR 1506.6.

The responsible official for this ROD is the Regional Director, Southeast Region, NPS, 100 Alabama Street, SW., 1924 Building, Atlanta, Georgia 30303.

Dated: December 2, 2010.
David Vela,
Regional Director, Southeast Region, National Park Service.

[FR Doc. 2010-31902 Filed 12-17-10; 8:45 am]

BILLING CODE 4310-V6-P